DEPARTMENT OF STATE

[Public Notice: 11287]

Sudan; Determination Under Presidential Proclamation

I hereby determine, in accordance with section 5 of Presidential Proclamation No. 6958, of November 22, 1996, that the suspension of entry into the United States of members or officials of the Government of Sudan (GOS) and members of the Sudanese armed forces is no longer necessary and should be terminated given the termination of the restrictive measures in UN Security Council Resolution 1054 and its successor resolution UNSCR 1070, and the significant shift in U.S. foreign policy toward Sudan following the installation of the new Sudanese Civilian-Led Transitional Government. Restrictions imposed in said proclamation, pursuant to Section 212(f) and 215 of the Immigration and Nationality Act of 1952 as amended (8 U.S.C. 1182(f) and section 301 of title 3, United States Code shall therefore lapse, and said proclamation shall terminate effective immediately.

This determination will be reported to Congress and published in the Federal Register.

Dated: December 15, 2020.
Michael R. Pompeo,
Secretary of State.

[FR Doc. 2020-28271 Filed 12-22-20; 8:45 am]

BILLING CODE 4710-26-P